Executive Order 14364 of December 6, 2025

Addressing Security Risks From Price Fixing and Anti-Competitive Behavior in the Food Supply Chain

By the authority vested in me as President by the Constitution and the laws of the United States of America, it is hereby ordered:

Section 1. Background. An affordable and secure food supply is vital to America's national and economic security. However, anti-competitive behavior, especially when carried out by foreign-controlled corporations, threatens the stability and affordability of America's food supply. In recent years certain companies in the American food supply chain have even settled civil suits accusing them of price fixing for tens of millions of dollars. Food supply sectors including meat processing, seed, fertilizer, and equipment have similar vulnerabilities to price fixing and other anti-competitive practices. My Administration will act to determine whether anti-competitive behavior, especially by foreign-controlled companies, increases the cost of living for Americans and address any associated national security threat to food supply chains.

Sec. 2. Food Supply Chain Security Task Forces to Protect Competition. (a) The Attorney General and the Chairman of the Federal Trade Commission shall each establish a Food Supply Chain Security Task Force within the Department of Justice and the Federal Trade Commission, respectively, that will take all necessary and appropriate actions to investigate food-related industries within their established areas of expertise and determine whether anti-competitive behavior exists in food supply chains in the United States, as well as whether control of food-related industries by foreign entities is increasing the cost of food products in the United States or creating a national or economic security threat to Americans. The Attorney General and the Chairman of the Federal Trade Commission shall take such actions as are necessary to remedy any anti-competitive behavior that their respective investigations uncover, including bringing enforcement actions and proposing new regulatory approaches. Should the Department of Justice Food Supply Chain Security Task Force uncover any evidence of criminal collusion, the Attorney General shall commence criminal proceedings as appropriate, including grand jury investigations.

(b) The Task Forces shall, as permitted by law, jointly brief the Speaker of the House, the Majority Leader of the Senate, and the chairs of congressional committees of jurisdiction with a summary of their progress pursuant to this order once within 180 days following the date of this order, and again within 365 days following the date of this order, including, if relevant after consulting with the Assistant to the President and Deputy Chief of Staff for Legislative, Political, and Public Affairs, any recommended congressional actions. Such briefings shall not include any information related to ongoing investigations, prosecutions, regulatory actions, or litigation nor any non-public information regarding any food-related industry investigated pursuant to this order.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Justice.

THE WHITE HOUSE,

December 6, 2025.

[FR Doc. 2025-22537

Filed 12-9-25; 11:15 am]

Billing code 4410-CW-P